DEPARTMENT OF DEFENSE

Department of the Army

Army Science Board, Notice of Open Meeting

In accordance with Section 10(a)(2) of the Federal Advisory Committee Act (Pub. L. 92-463), announcement is made of the following Committee Meeting:

Name of Committee: Army Science Board (ASB).

Date(s) of Meeting: 14-25 July 2002.

Times(s) of Meeting: 0900-1700.

Place: Irvine, California.

1. AGENDA: The Army Science Board FY02 Summer Study on “Ensuring the Financial Viability of the Objective Force” is holding a 2002 Summer Study Report Writing Session. The Session will be held at the Arnold and Mabel Beckman Center of the National Academies of Sciences and Engineering in Irvine, CA. The Session will begin at 0900 hours on July 14, 2002 and will end at approximately 1700 hours on July 25, 2002. For further information/registration, please contact the Army Science Board—703-604-7461.

Wayne Joyner,
Program Support Specialist, Army Science Board.

[FR Doc. 02-17459 Filed 7-9-02; 8:45 am]

BILLING CODE 3710-08-M